DEPARTMENT OF AGRICULTURE

Forest Service

Tongass National Forest; Alaska; Greens Creek Mine North Extension Project

AGENCY: Forest Service, USDA.

ACTION: Notice of intent to prepare a supplemental environmental impact statement.

SUMMARY: In June 2020, the United States Department of Agriculture Forest Service (Forest Service), Tongass National Forest, received a proposal from Hecla Greens Creek Mining Company (HGCMC), the owner/operator of the Greens Creek Mine (Mine), to amend the 2013 General Plan of Operations. This proposed plan amendment as described in HGCMC's proposed North Extension Project (NEP) would expand the disturbance area currently approved by the Forest Service under the 2013 Greens Creek Mine Tailings Disposal Facility Expansion FEIS. To assess HGCMC's proposed NEP, the Forest Service will prepare a Supplemental Environmental Impact Statement (SEIS). This notice advises the public that the Tongass National Forest is gathering information necessary to prepare an SEIS to evaluate the effects of changing the Plan of Operations via HGCMC's proposed NEP.

DATES: Comments concerning the scope of the analysis must be received by November 23, 2020. The draft SEIS is expected October 2021, and the final SEIS is expected October 2022.

ADDRESSES: Send written comments to Tongass National Forest, Greens Creek NEP SEIS, 8510 Mendenhall Loop Rd., Juneau, Alaska 99801. Comments may also be sent via email to sm.fs.greenscreek@usda.gov, or via facsimile to 907-586-8808.

FOR FURTHER INFORMATION CONTACT: Basia Trout, Admiralty Island National Monument Ranger or Matthew Reece, Minerals Program Manager, Tongass National Forest at the Juneau Ranger District, 8510 Mendenhall Loop Rd., Juneau, Alaska 99801 or by telephone at 907-586-8800, between 8:00 a.m. and 4:00 p.m., Alaska Standard Time, Monday through Friday.

Individuals who use telecommunication devices for the deaf (TDD) may call the Federal Information Relay Service (FIRS) at 1-800-877-8339 between 8 a.m. and 8 p.m., Eastern Time, Monday through Friday.

SUPPLEMENTARY INFORMATION: This SEIS will supplement the 2013 Greens Creek Mine Tailings Disposal Facility Expansion FEIS and the 1983 Greens Creek Mine FEIS and 2003 Greens Creek Tailings Disposal FEIS. Information from the previous documents will be brought forward into this SEIS as necessary. The previous FEIS' along with other supporting documents are available at: https://www.fs.usda.gov/project/?project=57306.

Project Location: The mine property is located on Admiralty Island in the Tongass National Forest adjacent to the south side of Hawk Inlet. The mine is approximately 18 air miles southwest of Juneau and 43 air miles north of Angoon, Alaska. The site is currently accessible by floatplane, helicopter, or boat and is within the administrative boundary of the City and Borough of Juneau. The mine covers both private lands and National Forest System lands.

Tongass Land and Resource Management Plan (Forest Plan): The primary land use designation in the Forest Plan for the project area of this proposal is Semi-remote Recreation, with the southern portion of the project area located in the Nonwilderness National Monument land use designation.

Purpose and Need for Action

The purpose of this SEIS is for the Forest Service to consider certain changes to the approved General Plan of Operations regarding tailings and waste rock disposal and related infrastructure. The proposed action is to extend the Tailings Disposal Facility footprint to provide for an additional four to five million tons of tailings and waste rock disposal capacity, in a manner that minimizes disturbance. To the extent practical, the extended footprint and new associated supporting infrastructure would be located on areas already disturbed and/or on areas immediately adjacent to existing disturbance. With continued positive exploration results, improved metal prices, and ongoing operational efficiencies, there is a need for additional tailings and waste rock disposal and related infrastructure at the Greens Creek Mine to allow for continuous site operations in a safe, environmentally sound, technically feasible, and economically viable manner, while being in compliance with regulatory requirements.

Proposed Action

HGCMC has proposed the North Extension Project to provide an additional estimated four to five million cubic yards of tailings and waste rock storage at the Greens Creek Tailings Disposal Facility, allowing the planned mineral production at the mine site to continue pursuant to applicable law and pre-existing rights beyond the year 2031, when the current disposal capacity is expected to be exhausted. The proposal to expand the disturbance area authorized under the approved 2013 General Plan of Operations includes the following main elements:

• Avoid new Monument disturbance outside the existing Forest Service-approved HGCMC Lease Boundary (“Lease Boundary”) and minimizing disturbance to the portion of the Monument within the Lease Boundary;

• Avoid direct disturbance to fish-bearing reaches of Tributary Creek;

• Avoid construction of a new “remote” Tailings Disposal Facility;

• Continue the same or similar dry-stack tailings disposal method, which has been previously reviewed and approved by the Forest Service;

• Extend the existing Tailings Stack in a manner that minimize disturbance. To the extent practical, locate the extended Tailings Stack and new associated supporting infrastructure on areas already disturbed and/or on areas immediately adjacent to existing disturbance. Where possible, use in-place infrastructure (roads, water treatment facilities, drainage control, etc.);

• Minimize direct new disturbance to environmental resources and sensitive habitats, such as jurisdictional waters of the United States;

• Consider closure and reclamation as part of design and operations;

• Design and construct the TDF to be technically feasible and environmentally sound;

• Comply with applicable federal, state and local legal and regulatory standards.

In general, the NEP focuses on expansions of mine facilities presented in the 2013 General Plan of Operations. If approved, the NEP would be incorporated into the existing General Plan of Operations where changes are proposed; however, any items not discussed in the NEP would refer back to the approved Plan of Operations for resolution.

Possible Alternatives

A no-action alternative, which represents no changes to the approved 2013 General Plan of Operations and serves as the baseline for the comparison among the action alternatives, will be analyzed in addition to the proposed action. An alternative to place additional tailings and waste rock in another location, outside the Monument, will also be considered. Comments received in response to this Notice of Intent may identify additional reasonable alternatives.

Lead and Cooperating Agencies

The USDA Forest Service is the lead agency for the proposed action and compliance with the National Environmental Policy Act (NEPA). The Tongass National Forest has identified multiple agencies with special expertise with respect to the proposed action that could serve as cooperating agencies. The U.S. Army Corps of Engineers has special expertise with assessing impacts to waters of the United States, including wetlands; additionally, a Section 404 of the Clean Water Act permit will be needed from this agency. From the State of Alaska, at least three departments could be cooperating agencies due to their expertise and involvement in evaluations for this type of permit application. These departments include the Alaska Departments of Fish and Game, Environmental Conservation, and Natural Resources. Locally, the City and Borough of Juneau could be a cooperating agency as the Mine is within its boundaries and it issues permits for certain facilities at the Mine. The Tongass National Forest will conduct an effort to formally identify cooperating agencies.

Responsible Official

The Responsible Official for the decision on this project is the Forest Supervisor, Tongass National Forest, Federal Building, 648 Mission Street, Ketchikan, Alaska 99901.

Nature of Decision To Be Made

The Forest Supervisor is the Responsible Official for this action and will decide whether or not to amend the approved Plan of Operations. The decision will be based on information that is disclosed in the Final SEIS. The Responsible Official will consider the comments, responses, disclosure of environmental consequences, and applicable laws, regulations, and policies in making the decision and state the rationale in the Record of Decision. Based on the information in the Final SEIS and ROD, the U.S. Army Corps of Engineers (USACE) will decide whether to issue a Clean Water Act, Section 404 individual Department of Army permit for placement of fill or dredge material in waters of the United States based on USACE's determination of compliance with the Environmental Protection Agency's 404(b)(1) Guidelines (40 CFR 230), including selection of the least environmentally damaging practicable alternative and the public interest review finding at 33 CFR 320.4(a).

Scoping Process

This Notice of Intent initiates the scoping process, which guides the development of the SEIS through internal and external input on the issues, impacts, and alternatives to consider. The Forest Service will invite the public to participate in virtual scoping meetings in Angoon, Hoonah, and Juneau, Alaska. These meetings will be posted on the Forest's website at https://www.fs.usda.gov/project/?project=57306 and will be advertised in the Juneau Empire and in the Ketchikan Daily News, the newspaper of record, to announce the date, time, place and purpose of the public scoping meetings.

Forest Service regulations at 36 CFR 218, subparts A and B, regarding the project-level predecisional administrative review process, apply to projects and activities implementing land management plans that are not authorized under the Healthy Forest Restoration Act. Only individuals or entities who submit timely and specific written comments concerning the project during this or another designated public comment period established by the Responsible Offical will be eligible to file on objection. It is important that reviewers provide their comments at such times and in such manner that they are useful to the agency's preparation of the SEIS. Therefore, comments should be provided prior to the close of the comment period and should clearly articulate the reviewer's concerns and contentions.

Comments received in response to this solicitation, including names and addresses of those who comment, will be part of the public record for this proposed action. Comments submitted anonymously will be accepted and considered, however, anonymous commenters will not gain standing to object as defined in 36 CFR 218.2.

Allen Rowley,
Associate Deputy Chief, National Forest System.

[FR Doc. 2020-22440 Filed 10-8-20; 8:45 am]

BILLING CODE 3411-15-P